DEPARTMENT OF STATE

[Public Notice 6399]

30-Day Notice of Proposed Information Collection: DS-234, Application for Special Immigrant Visa and Alien Registration, OMB Number 1405-0015

ACTION: Notice of request for public comment and submission to OMB of proposed collection of information.

SUMMARY: The Department of State has submitted the following information collection request to the Office of Management and Budget (OMB) for approval in accordance with the Paperwork Reduction Act of 1995.

• Title of Information Collection: Application for Special Immigrant Visa.

• OMB Control Number: 1405-0015.

• Type of Request: Revision of a Currently Approved Collection.

• Originating Office: Bureau of Consular Affairs, Department of State (CA/VO).

• Form Number: DS-234.

• Respondents: Iraqi and Afghan special immigrant visa applicants.

• Estimated Number of Respondents: 12,000 per year.

• Estimated Number of Responses: 12,000 per year.

• Average Hours Per Response: 20 minutes.

• Total Estimated Burden: 4,000 hours per year.

• Frequency: Once per respondent.

• Obligation to Respond: Required to Obtain or Retain U.S. resettlement benefits.

DATES: Submit comments to the Office of Management and Budget (OMB) for up to 30 days from October 15, 2008.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: You may obtain copies of the proposed information collection and supporting documents from Jessica Firestein of the Office of Admissions, Bureau of Population, Refugees and Migration, U.S. Department of State, 2401 E. Street, NW. L-505, Washington, DC 20522, who may be reached at firesteinjy@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

Form DS-234 is being added to this collection to elicit information that will be used by the Department of State to identify an appropriate resettlement site in the United States and correctly allocate additional services for Iraqi and Afghan special immigrant visa recipients. The recipients are eligible for resettlement benefits administered by the Department of State under Public Laws 110-161 and 110-181, as amended by Public Law 110-242.

Methodology

The SIV Bio-data information form (DS-234) is submitted electronically by the applicant to the National Visa Center, which will forward the forms to the Refugee Processing Center of the Bureau of Population, Refugees and Migration.

Dated: October 3, 2008.
Lawrence Bartlett,
Deputy Director, Office of Admissions, Bureau of Population, Refugees and Migration, Department of State.

[FR Doc. E8-24470 Filed 10-14-08; 8:45 am]

BILLING CODE 4710-33-P